DEPARTMENT OF DEFENSE

Office of the Secretary

Department of Defense Task Force on the Future of Military Health Care

AGENCY: Department of Defense.

ACTION: Notice of meeting; Correction.

SUMMARY: On March 30, 2007 (72 FR 15118) the Department of Defense published a notice on Department of Defense Task Force on the Future of Military Health Care. Pursuant to the Federal Advisory Committee Act (FACA) of 1972 (5 U.S.C., Appendix, as amended), the Sunshine in the Government Act of 1976 (5 U.S.C. 552b, as amended) and 41 Code of Federal Regulations (CFR) 102-3.140 thorough 160, the Department of Defense announced the Department of Defense Task Force on the Future of Military Health Care's April 9 and 10, 2007 meeting in San Antonio, Texas

Following submission of that Federal Register notice the Task Force members, on March 28, 2007 changed the agenda for the scheduled meeting in San Antonio. Due to these changes and pursuant to 41 CFR 102-3.150, Department of Defense announces a Corrected Meeting Notice for the April 9-10, 2007 meeting of the Department of Defense Task Force on the Future of Military Health Care:

Name of Committee: Department of Defense Task Force on the Future of Military Health Care (hereafter referred to as the Task Force), a duly established subcommittee of the Defense Health Board.

Date of Meetings: April 9 and April 10, 2007

Date of Meeting: April 9, 2007.

Time of Meeting: 1 p.m.-7 p.m.

Place of Meetings:

1 p.m.-3 p.m. Preparatory Work Meeting (Closed to the Public). U.S. Army Institute of Surgical Research, 3400 Rawley E. Chambers Avenue, Brooke Army Medical Center, Fort Sam Houston, Texas, 78234-6315.

3:10 p.m.-5 p.m. Preparatory Work Meeting (Closed to the Public). Center for the Intrepid, 3851 Roger Brooke Drive, Fort Sam Houston, Texas, 78234.

5:30 p.m.-7 p.m. Town Hall Meeting, (Open to the Public). Sam Houston Club, Building 1395 Chaffee Road, Fort Sam Houston, Texas, 78234.

Purpose of Meetings: To obtain, review, and evaluate information related to the Task Force's congressionally-directed mission to examine matters relating to the future of military health care.

The Task Force's preparatory work meetings (1 p.m. to 3 p.m. and 3:10 to 5 p.m.) are convened solely to gather information, conduct research and analyze relevant issues and facts in preparation for an open meeting of the Task Force. As such, both of these meetings, pursuant to 41 CFR 102-3.160(a), are closed to the public.

The Town Hall Meeting, which is open to the public, will be held at the Sam Houston Club and the public is encouraged to attend. During this meeting, the public will have the opportunity to speak, in a Town Hall forum, to the Task Force members about the DoD military health care system.

Date of Meeting: April 10, 2007

Time of Meeting: 7:30 a.m.-5:30 p.m.

Place of Meeting: Hyatt Regency, Hill Country Resort, 9800 Hyatt Resort Drive, San Antonio, Texas, 78251.

7:30 a.m.-7:50 a.m. Administrative Work Meeting (Closed to the Public).

8 a.m.-5 p.m. Public Meeting (Open to the Public).

5:10 p.m.-5:30 p.m. Preparatory Work (Closed to the Public).

Purpose of Meeting: To obtain, review, and evaluate information related to the Task Force's congressionally-directed mission to examine matters relating to the future of military health care. The Task Force members will receive briefings on topics related to the delivery of military health care during the public meeting.

Agenda: Panel discussions with active, retired, Guard/reserve forces and spouses, concerning a variety of issues affecting the military healthcare system.

Prior to the public meeting the Task Force will conduct an Administrative Work Meeting from 7:30 a.m. to 7:50 a.m. to discuss solely administrative matters of the Task Force and to receive administrative information from the Department of Defense.

In addition, the Task Force, following its public meeting, will conduct a Preparatory Work Meeting from 5:10 p.m. to 5:30 p.m. to solely analyze relevant issues and facts in preparation for the Task Force's next meeting.

Both the Administrative and Preparatory Meetings will be held at the Hyatt Regency Hill Country Ballroom.

Both the Administrative Work Meeting and Preparatory Work Meeting, pursuant to 41 CFR 102-3.160(a) and (b), are closed to the public.

Additional information is available online at the Task Force Web site, http://www.DoDfuturehealthcare.net.

FOR FURTHER INFORMATION CONTACT: Colonel Christine Bader, Executive Secretary, Department of Defense Task Force on the Future of Military Health Care, TMA/Code: DHS, Five Skyline Place, Suite 810, 5111 Leesburg Pike, Falls Church, Virginia 22041-3206, (703) 681-3279, ext. 109 (christine.bader@ha.osd.mil).

SUPPLEMENTARY INFORMATION: Open sessions of the meeting will be limited by space accommodations. Any interested person may attend; however, seating is limited to the space available at the Sam Houston Club and the Hyatt Regency Hill Country.

Individuals or organizations wishing to submit written comments for consideration by the Task Force should provide their comments in an electronic (PDF Format) document to the Executive Secretary of the Department of Defense Task Force on the future of Military Health Care, christine.bader@ha.osd.mil, no later than April 6, 2007.

Pursuant to the FACA statute, FACA regulations and DoD policy, substantive changes to any previously announced Federal advisory committee meeting notice must be republished in the Federal Register. Rescheduling the visit to San Antonio, Texas to comply with the 15-calendar day requirement of the Sunshine Act and 41 CFR 102-3.150(a) would have an adverse impact on the Task Force's ability to comply with its congressionally-mandated mission. Accordingly, the Committee Management Officer for the Department of Defense, pursuant to 41 CFR 102-3.150(b), waives the 15-calendar day notification requirement.

Dated: April 5, 2007.
L.M. Bynum,
Alternate OSD Federal Register Liaison Officer, Department of Defense.

[FR Doc. 07-1784 Filed 4-6-07; 10:40 am]

BILLING CODE 5001-06-M